DEPARTMENT OF TRANSPORTATION

Federal Aviation Administration

[Docket No. FAA FAA-2012-0156]

Advisory Circular: Public Aircraft Operations

AGENCY: Federal Aviation Administration (FAA), Department of Transportation (DOT).

ACTION: Notice of availability; request for comment.

SUMMARY: This notice announces the availability of a proposed revision to Advisory Circular 00-1.1 regarding public aircraft operations. This advisory circular provides information for any person who engages in public aircraft operations as defined by statute.

DATES: Written comments must be received on or before April 13, 2012.

ADDRESSES: Send comments identified by docket number FAA-2012-0156 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Carl N. Johnson, General Aviation and Commercial Division, Flight Standards Service, Federal Aviation Administration, 800 Independence Avenue SW., Washington, DC 20591; telephone: (202) 385-9600; facsimile: (202) 385-9597.

Background: This advisory circular (AC) provides updated information on the application of the statutory requirements for public aircraft operations (PAO) and FAA policy regarding the use of contract operators. This AC is not mandatory and does not constitute a regulation. Nothing in this AC changes the requirement to comply with the statute.

On March 23, 2011, the FAA published a Notice of Policy Regarding Civil Aircraft Operators Providing Contract Support to Government Entities (Public Aircraft Operations) (76 FR 16349). This advisory circular provides additional information on the application of that policy.

The agency will consider all comments received by April 13, 2012. Comments received after that date may be considered if consideration will not delay publication of the advisory circular. A copy of the advisory circular is available for review in the assigned docket at http://www.regulations.gov.

Issued in Washington, DC, on February 7, 2012.
John M. Allen,
Director, Flight Standards Service.

[FR Doc. 2012-3254 Filed 2-10-12; 8:45 am]

BILLING CODE 4910-13-P